NATIONAL COMMISSION ON TERRORIST ATTACKS UPON THE UNITED STATES

National Commission on Terrorist Attacks Upon the United States; Public Hearing

ACTION: Notice of public hearing.

SUMMARY: The National Commission on Terrorist Attacks Upon the United States will hold its second public hearings on May 22 and May 23, 2003, in Washington, DC. Congressional witnesses and people with expertise on aviation security will testify. Representatives of the media should register with the Commission in advance of the hearing. Seating for the general public will be on a first-come, first-served basis. Press availability will occur at the conclusion of each day's hearing.

DATES: May 22, 9 a.m. to 4 p.m., May 23, 9 a.m. to 1 p.m.

ADDRESSES: Hart Senate Office Building, 2nd and D Streets, NE., Washington, DC 20515.

FOR FURTHER INFORMATION CONTACT: Al Felzenberg (202) 301-4062 and (202) 236-4878 (Cellular).

SUPPLEMENTARY INFORMATION: Please refer to Public Law 107-306 (November 27, 2002), title VI (Legislation creating the Commission), and the Commission's Web site: www.9-11Commission.gov.

Dated: May 8, 2003.
Philip Zelikow,
Executive Director.

[FR Doc. 03-12108 Filed 5-14-03; 8:45 am]

BILLING CODE 8800-01-M